DEPARTMENT OF HOMELAND SECURITY

Coast Guard

33 CFR Part 117

[USCG-2008-0258]

Drawbridge Operation Regulations; Charles River, Boston, MA, Larry Kessler 5K Run

AGENCY: Coast Guard, DHS.

ACTION: Notice of temporary deviation from regulations.

SUMMARY: The Commander, First Coast Guard District, has issued a temporary deviation from the regulation governing the operation of the Craigie Bridge across the Charles River at mile 1.0, at Boston, Massachusetts. Under this temporary deviation the bridge may remain in the closed position for one hour during a public event, the 2008 Larry Kessler 5K Run. This deviation is necessary to facilitate public safety during a public event.

DATES: This deviation is effective from 10:45 a.m. through 11:45 a.m., on June 1, 2008.

ADDRESSES: Documents indicated in this preamble as being available in the docket are part of docket USCG-2008-0258 and are available online at http://www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts 02110, between 7 a.m. and 3 p.m., Monday through Friday, except Federal holidays.

FOR FURTHER INFORMATION CONTACT: John McDonald, Project Officer, First Coast Guard District, at (617) 223-8364.

SUPPLEMENTARY INFORMATION: The Craigie Bridge, across the Charles River at mile 1.0, at Boston, Massachusetts, has a vertical clearance in the closed position of 13.5 feet at normal pool elevation above the Charles River Dam. The existing drawbridge operation regulation is listed at 33 CFR 117.591(e).

The waterway is predominantly a recreational waterway supporting various size vessels. The facilities were notified regarding this closure and no objections were received.

The owner of the bridge, the Department of Conservation and Recreation (DCR), requested a temporary deviation to facilitate public safety during a public event, the 2008 Larry Kessler 5K Run.

Under this temporary deviation, in effect from 10:45 a.m. through 11:45 a.m. on June 1, 2008, the Craigie Bridge at mile 1.0, across the Charles River at Boston, Massachusetts, may remain in the closed position.

Vessels that can pass under the bridge without a bridge opening may do so at all times.

In accordance with 33 CFR 117.35(e), the bridge must return to its regular operating schedule immediately at the end of the designated time period. This deviation from the operating regulations is authorized under 33 CFR 117.35.

Dated: May 6, 2008.
Gary Kassof,
Bridge Program Manager, First Coast Guard District.

[FR Doc. E8-10709 Filed 5-13-08; 8:45 am]

BILLING CODE 4910-15-P